ENVIRONMENTAL PROTECTION AGENCY

[EPA-HQ-OPPT-2021-0254; FRL-9347-03-OCSPP]

Asbestos Part 2: Supplemental Evaluation Including Legacy Uses and Associated Disposals of Asbestos; Draft Scope of the Risk Evaluation To Be Conducted Under the Toxic Substances Control Act (TSCA); Extension of Comment Period

AGENCY: Environmental Protection Agency (EPA).

ACTION: Notice; extension of comment period.

SUMMARY: In the Federal Register of December 29, 2021, EPA announced the availability of and solicited public comment on the draft scope of a risk evaluation under the Toxic Substances Control Act (TSCA) for Asbestos Part 2: Supplemental Evaluation Including Legacy Uses and Associated Disposals of Asbestos. This document extends the comment period for 15 days from February 14, 2022, to March 1, 2022.

DATES: The comment period for the notice published on December 29, 2021, at 86 FR 74088 is extended. Comments, identified by docket identification (ID) number EPA-HQ-OPPT-2021-0254, must be received on or before March 1, 2022.

ADDRESSES: Submit your comments, identified by ID number EPA-HQ-OPPT-2021-0254, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA Docket Center (EPA/DC) and Reading Room is open to visitors by appointment only. The staff continues to provide remote customer service via email, phone, and webform. For the latest status information on EPA/DC services and docket access, visit https://www.epa.gov/dockets.

FOR FURTHER INFORMATION CONTACT:

For technical information contact: Peter Gimlin, Existing Chemical Risk Management Division (Mail Code 7404T), Office of Pollution Prevention and Toxics, Environmental Protection Agency, 1200 Pennsylvania Ave. NW, Washington, DC 20460-0001; telephone number: (202) 566-0515; email address: gimlin.peter@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of December 29, 2021 (86 FR 74088) (FRL-9347-01-OCSPP) for 15 days, from February 14, 2022, to March 1, 2022. In that document, in accordance with implementing regulations for the Toxic Substances Control Act (TSCA), EPA announced the availability of and solicited public comment on the draft scope of the risk evaluation for Asbestos Part 2: Supplemental Evaluation Including Legacy Uses and Associated Disposals of Asbestos. More information on EPA's draft risk assessment and solicitation of comment can be found in the Federal Register of December 29, 2021.

EPA received requests to extend the comment period and believes it is appropriate to do so in order to give stakeholders additional time to review the draft scope document and prepare comments.

To submit comments, or access the docket, please follow the detailed instructions provided under ADDRESSES. If you have questions, consult the technical person listed under FOR FURTHER INFORMATION CONTACT.

Michal Freedhoff,
Assistant Administrator, Office of Chemical Safety and Pollution Prevention.

[FR Doc. 2022-02851 Filed 2-9-22; 8:45 am]

BILLING CODE 6560-50-P